DEPARTMENT OF JUSTICE

Antitrust Division

Notice Pursuant to the National Cooperative Research and Production Act of 1993—DVD Copy Control Association

Notice is hereby given that, on June 27, 2005, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, Advance & Beyond Tech. Co., Ltd., Guandong, People's Republic of China; Aplus Technics Co., Ltd, Taipei Hsien, Taiwan; Cal-Comp Electronics (Thailand) Public Co., Ltd., Bangkok, Thailand; Chunglam Digital Co., Ltd., Gyunggi-do, Republic of Korea; Cosmic Digital Technology Ltd., Hong Kong, Hong Kong-China; Digital Moon Music + Video, Inc., Markham, Ontario, Canada; EnCentrus Systems, Inc., Pointe-Claire, Quebec, Canada; Enseo, Inc., Richardson, TX; Ever Best Industrial (H.K.), Limited, Hong Kong, Hong Kong-China; Favor Digital Technology Co., Ltd., Jiang Xi, People's Republic of China; Fly Ring Digital Technology, Ltd., Hong Kong, Hong Kong-China; Global Brands Manufacture, Ltd., Guangdong, People's Republic of China; Goodsino Technology Development, Ltd., Hong Kong, Hong Kong-China; Guang Zhou Gang Ju Electronics, Ltd., Guangdong, People's Republic of China; Hagiwara Electric Co., Ltd., Aichi, Japan; Harbour Team Technologies, Ltd., Shenzhen, People's Republic of China; Industrial Technology Research Institute, Hsinchu, Taiwan; Jabil Circuit Hong Kong, Ltd., Hong Kong, Hong Kong-China; Lynic Technology PLC, Slough, Berkshire, United Kingdom; Maxi World Technology, Limited, Hong Kong, Hong Kong-China; Micro-Star Int'l Co., Ltd., Taipei Hsien, Taiwan; MJTel Co., Ltd., Incheon, Republic of Korea; Onken Corporation, Tokyo, Japan; PHD Electronics Technology Company, Hong Kong, Hong Kong-China; Scientific-Atlanta, Inc., Lawrenceville, GA; Sea Star Industry Co., Ltd., Shenzhen, People's Republic of China; Shantou Hi-Tech Zone Indall Enterprise Co., Ltd., Guangdong, People's Republic of China; Shenzhen Sobon Digital Technology Dev. Co., Ltd., Shenzhen, People's Republic of China; Silicon Application Company, Limited, Shenzhen, People's Republic of China; TCL Technoly Electronics (HuiZhou) Co., Ltd., Guangdong, People's Republic of China; Tecobest Digital Ltd., Hong Kong, Hong Kong-China; UAV Corporation, Fort Mill, SC; and Winbase Electronics Co., Ltd., Guangdong, People's Republic of China have been added as parties to this venture.

Also, BK DGTEC Co., Ltd., Seoul, Republic of Korea; Digital & Digital, Inc., Seoul, Republic of Korea; Molino Networks, Inc., Santa Cruz, CA; OSM, LLC, Rochester, NY; and Ultra Source Technology Corp., Hong Kong, Hong Kong-China have withdrawn as parties to this venture. The following member has changed its name: Time Group, Ltd. to Granville Technology Group, Ltd., Burnley, Lancashire, United Kingdom.

No other changes have been made in either the membership or planned activity of the group research project. Membership in this group research project remains open, and DVD CCA intends to file additional written notification disclosing all changes in membership.

On April 11, 2001, DVD CCA filed its original notification pursuant to Section 6(a) of the Act. The Department of Justice published a notice in the Federal Register pursuant to Section 6(b) of the Act on August 3, 2001 (66 FR 40727).

The last notification was filed with the Department on March 29, 2005. A notice was published in the Federal Register pursuant to Section 6(b) of the Act on April 26, 2005 (70 FR 21443).

Dorothy B. Fountain,
Deputy Director of Operations, Antitrust Division.

[FR Doc. 05-13725 Filed 7-12-05; 8:45 am]

BILLING CODE 4410-11-M